DEPARTMENT OF LABOR

Employment and Training Administration

[NAFTA-06445, NAFTA-06445A, NAFTA-06445B, and NAFTA-06445C]

Creo Americas, Inc., Subsidiary of Creo, Inc., Bedford, Massachusetts; Creo Americas, Inc., Subsidiary of Creo, Inc., Atlanta Regional Office, Atlanta, Georgia; Creo Americas, Inc., Subsidiary of Creo, Inc., Chicago Regional Office, Itasca, Illinois; Creo Americas, Inc., Subsidiary of Creo, Inc., Irvine Regional Office, Irvine, California; Amended Certification Regarding Eligibility To Apply for NAFTA-Transitional Adjustment Assistance

In accordance with section 250(a), subchapter D, chapter 2, Title II, of the Trade Act of 1974, as amended (19 U.S.C. 2273), the Department of Labor issued a Certification of Eligibility to Apply for NAFTA Transitional Adjustment Assistance on October 15, 2002, applicable to workers of Creo Americas, Inc., a Subsidiary of Creo, Inc., Bedford, Massachusetts. The notice was published in the Federal Register on November 5, 2002 (67 FR 67422).

At the request of the company, the Department reviewed the certification for workers of the subject firm. The company reports that worker separations occurred at the Atlanta Regional Office, Atlanta, Georgia, Chicago Regional Office, Itasca, Illinois and the Irvine Regional Office, Irvine, California of Creo Americas, Inc., a subsidiary of Creo, Inc. The workers are employed in administrative functions directly supporting the production of digital proofing hardware, software, ink and paper.

The intent of the Department's certification is to include all workers of Creo Americas, Inc., a subsidiary of Creo, Inc. affected by a shift in production to Canada.

Accordingly, the Department is amending the certification to include workers of Creo Americas, Inc., a subsidiary of Creo, Inc., Atlanta Regional Office, Atlanta, Georgia, Chicago Regional Office, Itasca, Illinois and the Irvine Regional Office, Irvine, California.

The amended notice applicable to NAFTA-06445 is hereby issued as follows:

“All workers of Creo Americas, Inc., a subsidiary of Creo, Inc., Bedford, Massachusetts (NAFTA-06445), Atlanta Regional Office, Atlanta, Georgia (NAFTA-06445A), Chicago Regional Office, Itasca, Illinois (NAFTA-06445B), and Irvine Regional Office, Irvine, California (NAFTA-06445C), who became totally or partially separated from employment on or after August 2, 2001, through October 15, 2004, are eligible to apply for NAFTA-TAA under Section 250 of the Trade Act of 1974.”

Signed in Washington, DC, this 23rd day of January, 2003.
Richard Church,
Certifying Officer, Division of Trade Adjustment Assistance.

[FR Doc. 03-2848 Filed 2-5-03; 8:45 am]

BILLING CODE 4510-30-P